DEPARTMENT OF THE INTERIOR

Bureau of Land Management

[OR-014-01-1430-EU; GP-05-0048]

Public Land Sale, OR 53188

AGENCY: Bureau of Land Management (BLM), Interior.

ACTION: Amended notice of realty action.

SUMMARY: This Notice amends the Notice of Realty Action (NORA) published October 14, 2004, (69FR61038) for the competitive sale of a 520 acre parcel of public land in Klamath County, Oregon.

DATES: Sealed bids for the competitive sale will be opened on the first Tuesday of each month beginning on April 5, 2005.

ADDRESSES: BLM, Klamath Falls Field Office, 2795 Anderson Avenue, Building 25, Klamath Falls, Oregon 97603.

FOR FURTHER INFORMATION CONTACT: Linda Younger, Realty Specialist, at (541) 883-6916.

SUPPLEMENTARY INFORMATION: The NORA published on October 14, 2004 provided for the competitive sale of a 520 acre parcel of public land (Parcel I) in Klamath County, Oregon. This parcel was not sold in the competitive sale held on December 15, 2004. This Notice amends the NORA published in October 2004 and identifies additional sale dates for this parcel of public land.

In accordance with the provisions of 43 CFR Part 2711.3-1(e), the following described public land in Klamath County, Oregon, remains available for competitive sale until sold pursuant to Sections 203 and 209 of the Federal Land Policy and Management Act of 1976, (43 U.S.C. 1713 and 1719). The parcel is described as follows:

Parcel I (Competitive Sale)

Willamette Meridian, Oregon

T. 40 S., R. 11 E.,

sec. 27, SE¼SW¼, S½SE¼;

sec. 33, E½NE¼;

sec. 34, N½.

The area described contains 520 acres, more or less. The appraised market value for Parcel I is $182,000.00.

Sealed bids will be opened to determine the high bidder at 10:00 a.m. PST, on the first Tuesday of each month, beginning with April 5, 2005, at the BLM, Klamath Falls Field Office (address stated above), until the parcel is sold.

Offers to purchase Parcel I will be made only by sealed bids. All bids must be received at the BLM, Klamath Falls Field Office, not later than 4:30 p.m. PST, on the day prior to the sale or April 4, 2005, for the first offering.

The outside of bid envelopes must be clearly marked on the front lower left-hand corner with “BLM Land Sale OR 53188,” and the bid opening date. Bids must be for not less than the appraised market value of $182,000.00. Each sealed bid shall be accompanied by a certified check, postal money order, bank draft, or cashier's check made payable in U.S. Currency to the order of the Bureau of Land Management, for not less than 20 percent of the amount bid.

The bid envelope must also contain a statement showing the total amount bid and the name, mailing address, and phone number of the entity making the bid.

Additional Terms and Conditions of Sale

All terms and conditions remain the same as those published in the October 2004 NORA (69FR61038).

All rights, reservations, and conditions to be included in the patent remain the same as those published in the October 2004 NORA (69FR61038).

The land described herein remains segregated from appropriation under the public land laws, including the mining laws, pending issuance of a patent, publication of a notice in the Federal Register terminating the segregation, or September 15, 2005, whichever occurs first.

(Authority: 43 CFR 2711.1-2).

Jon Raby,
Field Manager, Klamath Falls Resource Area.

[FR Doc. 05-5187 Filed 3-15-05; 8:45 am]

BILLING CODE 4310-33-P